DEPARTMENT OF THE INTERIOR

National Park Service

National Register of Historic Places; Notification of Pending Nominations and Related Actions

Nominations for the following properties being considered for listing or related actions in the National Register were received by the National Park Service before January, 21, 2006.

Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by February 21, 2006.

John W. Roberts,
Acting Chief, National Register/National Historic Landmarks Program.

ARKANSAS

Ashley County

Crossroads Fire Tower, (Facilities Constructed by the CCC in Arkansas MPS) 2262 AR 133 N, Hamburg, 06000078

Sumner—White Dipping Vat, (Dip That Tick: Texas Tick Fever Eradication in Arkansas MPS) 4 mi. E of jct. of AR 82 and CR 69; 0.5 mi. S in the woods at the Hunt Camp, Hamburg, 06000087

Benton County

Kansas City Southern Railway Locomotive #73D and Caboose #385, AR 59 S of Church Ave., Decatur, 06000072

Conway County

US 64, Menifee Segment, Old, (Arkansas Highway History and Architecture MPS) Canal Rd. approx. 0.5 SE of US 64, Menifee, 06000071

Drew County

Selma Rosenwald School, Selma—Collins Rd., approx. 0.25 mi. S of US 278, Selma, 06000069

Faulkner County

Crownover—Brown, Earl and Oza, House, 133 S. Broadway, Damascus, 06000088

Garland County

Jack Tar Hotel and Bathhouse, 145 Oriole St., Hot Springs, 06000079

Greene County

George Ray's Dragstrip, AR 135, 0.5 mi. S of US 412, Paragould, 06000075

Jefferson County

St. Louis Southwestern Railway (Cotton Belt Route) Caboose #2325, 2815 Dixie Woods Dr., Pine Bluff, 06000074

Ouachita County

Hickman House, 3568 Mt. Holly Rd., Camden, 06000090

Phillips County

Ford, Henry and Cornelia, Farm, (Cotton and Rice Farm History and Architecture in the Arkansas Delta MPS) 1335 Phillips Cty Rd. 249, Lexa, 06000085

Turner Historic District, (Cotton and Rice Farm History and Architecture in the Arkansas Delta MPS) Corners of AR 318 and Phillips Cty Rd. 606, Cypert, 06000073

Pope County

Pottsville Dipping Vat, (Dip That Tick: Texas Tick Fever Eradication in Arkansas MPS) Corner of Rankin Park on E. Ash St., Pottsville, 06000086

Scott County

Bates School, 1074 Bates School Rd., Bates, 06000081

Sebastian County

Dodson Avenue Methodist Episcopal Church, 1922 Dodson Ave., Fort Smith, 06000082

Echols Memorial Christian Church, 2801 Alabama, Fort Smith, 06000070

Saint Scholastica Convent, 1301 S. Albert Pike, Fort Smith, 06000084

South Side Baptist Church, 2400 Dodson Ave., Fort Smith, 06000083

Sharp County

Hardy Cemetery Historic Section, (Hardy, Arkansas MPS) Bounded by Main St., Kelly St., Cope Ave. and Burlington RR, Hardy, 06000089

Washington County

Clack House, 725 E. Dogwood Ln., Fayetteville, 06000077

St. Joseph Catholic Church, 110 E. Henri de Tonti Blvd., Tontitown, 06000080

White County

Kerr—Booth House, (White County MPS) 611 W. Center Ave., Searcy, 06000076

FLORIDA

Hillsborough County

Robles, Horace T., House, 2604 E. Hanna Ave., Tampa, 06000091

ILLINOIS

Cook County

McJunkin, William, House, 151 Sheridan Rd., Winnetka, 06000104

Sangamon County

Ross, Joseph, House, 5200 Passfield Rd., Rochester, 06000092

IOWA

Clinton County

Ankeny Building, (Clinton, Iowa MPS) 201 Fifth Ave. S., Clinton, 06000105

MINNESOTA

Hennepin County

Farmers and Mechanics Savings Bank, 88 S. 6th St., Minneapolis, 06000094

NEBRASKA

Cass County

Fitzgerald, Paul, House, 513 E, 2nd St., Louisville, 06000100

O'Rourke, Capt. John, House, 424 N 6th St., Plattsmouth, 06000102

Custer County

Mason City School, 750 Main St., Mason City, 06000103

Fillmore County

Lincoln Telephone & Telegraph Exchange Building in Fairmount, 635 6th Ave., Fairmont, 06000099

Washington County

Frahm, Alfred H. and Sarah, House, 220 S. 15th St., Fort Calhoun, 06000101

OHIO

Jefferson County

First Methodist Episcopal—Holy Trinity Greek Orthodox Church, 300 S. Fourth St., Steubenville, 06000093

OREGON

Deschutes County

Sisters High School, 115 N. Locust St., Sisters, 06000095

Multnomah County

Enterprise Planing Mill, (Portland Eastside MPS) 50 SE Yamhill St., Portland, 06000097

Fisher, Raymond and Catherine, House, 1625 NE Marine Dr., Portland, 06000096

PENNSYLVANIA

Greene County

Hamilton—ely Farmstead, 1055 Sugar Run Rd., Whitely Township, 06000098

A request for REMOVAL has been made for the following resource:

NEBRASKA

McPherson County

McPherson County Courthouse, (County Courthouses of Nebraska MPS), Jct. of 6th and Anderson Sts., Tryon, 90000970

A request for MOVE has been made for the following resource:

LOUISIANA

Rapides County

Bennett Plantation House and Store, E of Alexandria on U.S. 71, Alexandria vicinity, 79001083

[FR Doc. E6-1429 Filed 2-2-06; 8:45 am]

BILLING CODE 4312-51-P